DEPARTMENT OF HOUSING AND URBAN DEVELOPMENT

[Docket No. FR-5415-N-11]

Notice of Availability: Notice of Funding Availability for HUD's Fiscal Year (FY) 2010 Lead-Based Paint Hazard Control Grant Program and Lead Hazard Reduction Demonstration Grant Program

AGENCY: Office of the General Counsel, HUD.

ACTION: Notice.

SUMMARY: HUD announces the availability on its Web site of the applicant information, submission deadlines, funding criteria, and other requirements for the FY2010 Lead-Based Paint Hazard Control Grant Program and Lead Hazard Reduction Demonstration Grant Program NOFA. Approximately $110 million is made available through this NOFA, by the Consolidated Appropriations Act, 2010 (Pub. L. 111-117, approved December 16, 2009). The purpose of these programs is to assist states, Native American Tribes, cities, counties/parishes, or other units of local government undertake comprehensive programs to identify and control lead-based paint hazards in eligible privately owned rental or owner-occupied housing. The Lead Hazard Reduction Demonstration Grant Program is targeted, however, to urban jurisdictions with the greatest lead-based paint hazard control needs.

The notice providing information regarding the application process, funding criteria and eligibility requirements can be found using the Department of Housing and Urban Development agency link on the Grants.gov/Find Web site at http://www.grants.gov/search/agency.do. A link to Grants.gov is also available on the HUD Web site at http://www.hud.gov/offices/adm/grants/fundsavail.cfm. The Catalogue of Federal Domestic Assistance (CFDA) number for the Lead-Based Paint Hazard Control Program is 14.900. The CFDA number for the Lead Hazard Reduction Demonstration Grant Program is 14.905. Applications must be submitted electronically through Grants.gov.

FOR FURTHER INFORMATION CONTACT: For information concerning the Lead-Based Paint Hazard Control Grant Program and Lead Hazard Reduction Demonstration Grant Program, contact Michelle M. Miller, Director, Programs Division, Office of Healthy Homes and Lead Hazard Control, Department of Housing and Urban Development, 451 Seventh Street, SW., Room 8236, Washington DC 20410-3000; telephone number 202-402-5769 (this is not a toll-free number). Persons with speech or hearing impairments may access this telephone number via TTY by calling the toll-free Federal Relay Service during working hours at 800-877-8339.

Dated: September 1, 2010.
Aaron Santa Anna,
Assistant General Counsel for Regulations.

[FR Doc. 2010-22537 Filed 9-8-10; 8:45 am]

BILLING CODE 4210-67-P